DEPARTMENT OF TRANSPORTATION

Federal Aviation Administration

14 CFR Part 39

[Docket No. 2002-NM-262-AD; Amendment 39-13561; AD 2004-07-17]

RIN 2120-AA64

Airworthiness Directives; Construcciones Aeronauticas, S.A. (CASA), Model C-212 Series Airplanes

AGENCY: Federal Aviation Administration, DOT.

ACTION: Final rule.

SUMMARY: This amendment adopts a new airworthiness directive (AD), applicable to all CASA Model C-212 series airplanes, that requires rework of the nose landing gear (NLG); modification of the hydraulic steering system; a test of the cable tension for the nosewheel steering system when abnormal vibration occurs, and adjustment of the cable tension, if necessary; and a revision to the Limitations section of the airplane flight manual to include certain procedures to be performed during the takeoff run. This action is necessary to prevent failure of the auxiliary landing gear direction system, which could result in abnormal vibrations during takeoff and landing runs, and consequent reduced controllability of the airplane. This action is intended to address the identified unsafe condition.

DATES: Effective May 11, 2004.

The incorporation by reference of certain publications listed in the regulations is approved by the Director of the Federal Register as of May 11, 2004.

ADDRESSES: The service information referenced in this AD may be obtained from Construcciones Aeronauticas, S.A., Getafe, Madrid, Spain. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all CASA Model C-212 series airplanes was published in the Federal Register on February 6, 2004 (69 FR 5762). That action proposed to require rework of the nose landing gear (NLG); modification of the hydraulic steering system; a test of the cable tension for the nosewheel steering system when abnormal vibration occurs, and adjustment of the cable tension, if necessary; and a revision to the Limitations section of the airplane flight manual to include certain procedures to be performed during the takeoff run.

Comments

Interested persons have been afforded an opportunity to participate in the making of this amendment. No comments were submitted in response to the proposal or the FAA's determination of the cost to the public.

Conclusion

The FAA has determined that air safety and the public interest require the adoption of the rule as proposed.

Cost Impact

The FAA estimates that 27 airplanes of U.S. registry will be affected by this AD, that it will take approximately 6 work hours per airplane to accomplish the rework of the NLG; and that the average labor rate is $65 per work hour. Based on these figures, the cost impact of this action on U.S. operators is estimated to be $10,530, or $390 per airplane.

We estimate that it will take approximately 92 work hours per airplane to accomplish the modification of the hydraulic steering system. Based on these figures, the cost impact of this action on U.S. operators is estimated to be $161,460, or $5,980 per airplane.

We estimate that it will take approximately 1 work hour per airplane to revise the Limitations section of the airplane flight manual. Based on these figures, the cost impact of this action on U.S. operators is estimated to be $1,755, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-17 Construcciones Aeronauticas, S.A. (CASA): Amendment 39-13561. Docket 2002-NM-262-AD.

Applicability: All Model C-212 series airplanes, certificated in any category.

Compliance: Required as indicated, unless accomplished previously.

To prevent failure of the auxiliary landing gear direction system, which could result in abnormal vibrations during takeoff and landing runs, and consequent reduced controllability of the airplane, accomplish the following:

Rework and Modification

(a) Within 6 months after the effective date of this AD, accomplish the actions in paragraphs (a)(1) and (a)(2) of this AD in accordance with the applicable service bulletin.

(1) Rework the nose landing gear (NLG) in accordance with the Accomplishment Instructions of CASA Service Bulletin 212-32-21, Revision 2, dated November 10, 1987.

(2) Modify the hydraulic steering system of the NLG in accordance with the Instructions for Accomplishment of CASA Service Bulletin SB-212-32-22, Revision 2, dated July 28, 1997.

Tension Test and Adjustment

(b) Within 600 flight hours after any abnormal vibration of the nosewheel steering system occurs, test the cable tension of the nosewheel steering system. Adjust the tension, if necessary. Accomplish these actions in accordance with CASA COM 212-172, Revision 04, dated December 9, 2002; or CASA COM 212-173, Revision 3, dated February 22, 1995; as applicable.

Airplane Flight Manual Revision

(c) Within 6 months after the effective date of this AD, revise the Limitations Section of the Airplane Flight Manual (AFM) to include the following statement. This may be accomplished by inserting a copy of this AD in the AFM.

“Nose wheel malfunction during take-off run—Initiate or “perform” normal RTO procedures.”

Note 1: When a statement identical to that in paragraph (c) of this AD has been included in the general revisions of the AFM, the general revisions may be inserted into the AFM, and the copy of this AD may be removed from the AFM.

Parts Installation

(d) As of the effective date of this AD, no person may install on any airplane an NLG unless it has been reworked in accordance with paragraph (a)(1) of this AD.

Alternative Methods of Compliance

(e) In accordance with 14 CFR 39.19, the Manager, International Branch, ANM-116, FAA, Transport Airplane Directorate, is authorized to approve alternative methods of compliance for this AD.

Incorporation by Reference

(f) Unless otherwise specified in this AD, the actions shall be done in accordance with CASA Service Bulletin 212-32-21, Revision 2, dated November 10, 1987; CASA Service Bulletin SB-212-32-22, Revision 2, dated July 28, 1997; CASA COM 212-172, Revision 04, dated December 9, 2002; and CASA COM 212-173, Revision 3, dated February 22, 1995; as applicable. CASA Service Bulletin 212-32-21, Revision 2, dated November 10, 1987, contains the following effective pages:

Page number | Revision level shown on page | Date shown on page
1 | 2 | November 10, 1987.
2-24 | 1 | June 4, 1986.

This incorporation by reference was approved by the Director of the Federal Register in accordance with 5 U.S.C. 552(a) and 1 CFR part 51. Copies may be obtained from Construcciones Aeronauticas, S.A., Getafe, Madrid, Spain. Copies may be inspected at the FAA, Transport Airplane Directorate, 1601 Lind Avenue, SW., Renton, Washington; or at the Office of the Federal Register, 800 North Capitol Street, NW., suite 700, Washington, DC.

Note 2: The subject of this AD is addressed in Spanish airworthiness directive 01/02, dated April 17, 2002.

Effective Date

(g) This amendment becomes effective on May 11, 2004.

Issued in Renton, Washington, on March 25, 2004.
Kalene C. Yanamura,
Acting Manager, Transport Airplane Directorate, Aircraft Certification Service.

[FR Doc. 04-7352 Filed 4-5-04; 8:45 am]

BILLING CODE 4910-13-P